DEPARTMENT OF JUSTICE

Notice of Lodging of Consent Decree Pursuant to the Clean Air Act, the Clean Water Act, the Comprehensive Environmental Response, Compensation and Liability Act, and the Emergency Planning and Community Right-to-Know Act

Consistent with Departmental policy, 28 CFR 50.7, notice is hereby given that a proposed Consent Decree in United States v. Mobil Oil Corporation, Civil Action No. 0010454 was lodged with the United States District Court for the Central District of California on September 28, 2000. On the same day, the United States filed a Complaint pursuant to section 113(b) of the Clean Air Act, section 309(b) of the Clean Water Act, section 109(c) of the Comprehensive Environmental Response, Compensation, and Liability Act of 1980, as amended, and section 325(b) of Emergency Planning and Community Right-to-Know Act against Mobil, alleging a variety of violations of federal environmental law at Mobil's Torrance, California refinery. The violations included improper laboratory practices, exceedences of the limits of its National Pollution Discharge Elimination System Permit, failure to conduct inspections of refinery equipment and failure to timely report releases of hazardous substances into the environment. The proposed Consent Decree, which settles the liability of Mobil for the violations alleged in the Complaint, provides that Mobile will undertake extensive injunctive relief, pay a civil penalty of $500,000 and perform two Supplemental Environmental Projects valued at $1 million. One SEP involves the purchase of emergency response equipment for use by the local fire department. The second SEP involves studying and implementing water conservation projects at the refinery.

The Department of Justice will receive, for a period of thirty (30) days from the date of this publication, comments relating to the proposed Consent Decree. Comments should be addressed to the Assistant Attorney General for the Environment and Natural Resources Division, U.S. Department of Justice, Box 7611, Washington, DC 20044, and refer to United States v. Mobil Oil Corporation, DOJ Ref. #90-5-2-1-2121.

The proposed settlement agreement may be examined at the Office of the United States Attorney, Federal Building, 300 North Los Angeles Street, Los Angeles, California 90012 and at the Office of the Environmental Protection Agency, Region 9, 75 Hawthorne Street, San Francisco, CA 94105. A copy of the proposed Consent Decree may also be obtained by mail from the Department of Justice Consent Decree Library, Box 7611, Washington, DC 20044. In requesting a copy, please refer to the referenced case and enclose a check in the amount of $13.25 (Consent Decree only) or $43.75 (Consent Decree with Appendices) (25 cents per page reproduction costs), payable to the Consent Decree Library.

Bruce Gelber,
Chief, Environmental Enforcement Section, Environment and Natural Resources Division.

[FR Doc. 00-27001 Filed 10-19-00; 8:45 am]

BILLING CODE 4410-15-M